DEPARTMENT OF COMMERCE

National Oceanic and Atmospheric Administration

RIN 0648-XH019

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Surfclam and Ocean Quahog Committee will hold a public meeting.

DATES: The meeting will be held on Monday, June 3, 2019, from 1 p.m. until 4:30 p.m. See SUPPLEMENTARY INFORMATION for agenda details.

ADDRESSES:

Meeting address: The meeting will take place at the Doubletree by Hilton New York Times Square West, 350 W 40th St., New York, NY 10018; telephone: (212) 607-8888.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Surfclam and Ocean Quahog Committee will meet to review the Public Hearing Document for the Atlantic Surfclam and Ocean Quahog Excessive Shares Amendment to ensure the document is complete for Council review and approval. An agenda and background documents will be posted at the Council's website (www.mafmc.org) prior to the meeting.

Special Accommodations

The meeting is physically accessible to people with disabilities. Requests for sign language interpretation or other auxiliary aid should be directed to M. Jan Saunders, (302) 526-5251, at least 5 days prior to the meeting date.

Dated: May 10, 2019.
Tracey L. Thompson,
Acting Deputy Director, Office of Sustainable Fisheries, National Marine Fisheries Service.

[FR Doc. 2019-10085 Filed 5-14-19; 8:45 am]

BILLING CODE 3510-22-P